DEPARTMENT OF COMMERCE

Foreign-Trade Zones Board

[B-42-2025]

Foreign-Trade Zone 147—Berks County, Pennsylvania; Application for Reorganization (Expansion of Service Area) Under Alternative Site Framework; Correction

SUMMARY: The Federal Register notice published on September 8, 2025, regarding the application submitted to the Foreign-Trade Zones (FTZ) Board by the FTZ Corp of Southern Pennsylvania, grantee of FTZ 147, to reorganize the zone to expand its service area is being corrected.

FOR FURTHER INFORMATION CONTACT: Juanita Chen at juanita.chen@trade.gov; telephone 202-482-1378.

SUPPLEMENTARY INFORMATION:

Correction

In the Federal Register of September 8, 2025, in FR Doc. 2025-17130, on page 43168, in the third column, the sentence “Rebuttal comments in response to material submitted during the foregoing period may be submitted through September 23, 2025.” is corrected to read as “Rebuttal comments in response to material submitted during the foregoing period may be submitted through November 24, 2025.”

Dated: September 8, 2025.
Elizabeth Whiteman,
Executive Secretary.

[FR Doc. 2025-17465 Filed 9-10-25; 8:45 am]

BILLING CODE 3510-DS-P